DEPARTMENT OF HOMELAND SECURITY

Coast Guard

33 CFR Part 100

[Docket No. USCG-2023-0711]

Special Local Regulation; St. Petersburg P-1 Grand Prix; Waters of Tampa Bay

AGENCY: Coast Guard, DHS.

ACTION: Notification of enforcement of regulation.

SUMMARY: The Coast Guard will enforce a special local regulation for the St. Petersburg P-1 Powerboat Grand Prix from September 2 through 3, 2023, to provide for the safety of life on navigable waterways during this event. Our regulation for marine events within the Seventh district identifies the regulated area for this event in St. Petersburg, FL. During the enforcement period, no person or vessel may enter, transit through, anchor in, or remain within the designated area unless authorized by the Captain of the Port St. Petersburg or a designated representative.

DATES: The regulations in 33 CFR 100.703, Table 1 to § 100.703, Item 5 will be enforced daily from 8 a.m. until 6 p.m., on September 2, 2023 through September 3, 2023.

FOR FURTHER INFORMATION CONTACT: If you have questions about this notification of enforcement, call or email Marine Science Technician First Class Mara Brown, Sector St. Petersburg Prevention Department, Coast Guard; telephone (813) 228-2191, email Mara.J.Brown@uscg.mil.

SUPPLEMENTARY INFORMATION: The Coast Guard will enforce the special local regulations in 33 CFR 100.703, Table 1 to § 100.703, Item No. 5, for the St. Petersburg P-1 Powerboat Grand Prix regulated area from September 2, 2023 through September 3, 2023. This action is being taken to provide for the safety of life on navigable waterways during this event. Our regulation for recurring marine events, Sector St. Petersburg, § 100.703, Table 1 § 100.703, Item No. 5, Specifies the location of the regulated area for the St. Petersburg Powerboat Grand Prix which encompasses portions Tampa Bay in the vicinity of the St. Petersburg Pier, in St. Peterburg, FL. During enforcement periods, as reflected in § 100.703, if you are the operator of a vessel in the regulated area you must comply with direction from the Patrol Commander or any designated representative.

In addition to this notice of enforcement in the Federal Register, the Coast Guard plans to provide notification of this enforcement period via the Local Notice to Mariners, marine information broadcasts, or both.

Dated: August 22, 2023.
Michael P. Kahle,
Captain, U.S. Coast Guard, Captain of the Port St. Petersburg.

[FR Doc. 2023-18698 Filed 8-29-23; 8:45 am]

BILLING CODE 9110-04-P